DEPARTMENT OF COMMERCE

National Oceanic and Atmospheric Administration

Agency Information Collection Activities; Submission to the Office of Management and Budget (OMB) for Review and Approval; Comment Request; Survey To Collect Economic Data From Recreational Anglers Along the Atlantic Coast

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 02, 2020, during a 60-day comment period. This notice allows for an additional 30 days for public comments.

Agency: National Oceanic and Atmospheric Administration (NOAA), Commerce.

Title: Survey To Collect Economic Data From Recreational Anglers Along the Atlantic Coast.

OMB Control Number: 0648-0783.

Form Number(s): None.

Type of Request: Regular, revision of currently approved information collection.

Number of Respondents: 442.

Average Hours per Response: 0.23.

Total Annual Burden Hours: 102.10.

Needs and Uses: This request is for a revision to a currently approved information collection. The objective of the original data collection effort under OMB Control Number 0648-0783 was to assess how changes in saltwater recreational fishing regulations affect angler effort, angler welfare, fishing mortality, and future stock levels. That data collection effort focused on anglers who fished for Atlantic cod and haddock off the Atlantic coast from Maine to Massachusetts. Under this revised information collection request, the objective remains the same, but a new survey will be added with the focus on anglers who fish for summer flounder and black sea bass in the North Atlantic coastal states of New York and New Jersey.

Data collected from this survey will improve our ability to understand and predict how changes in management options and regulations may change fishing mortality and the number of trips anglers take for summer flounder and black sea bass. This data will allow fisheries managers to conduct updated and improved analysis of the socio-economic effects of proposed changes in fishing regulations to recreational anglers and to coastal communities. The recreational fishing community and regional fisheries management councils have requested more species-specific socio-economic studies of recreational fishing that can be used in the analysis of fisheries policies. This survey will address that stated need for more species-specific studies. In addition, the survey data will provide the foundation for a Management Strategy Evaluation designed to assess the added economic value to anglers associated with minimizing summer flounder discards. This work will be conducted as part of the Mid-Atlantic Fisheries Management Council's Ecosystem Approach to Fisheries Management process.

The survey population consists of those anglers who fish in saltwater in the North Atlantic coastal states of New York and New Jersey and who possess a license to fish. A sample of anglers will be drawn from both state fishing license frames. The survey will be conducted using both mail and email to contact anglers and invite them to take the survey online. Anglers not responding to the online survey will receive a paper survey in the mail.

Affected Public: Individuals.

Frequency: The NARFS II will be a cross-sectional survey asking anglers to respond once to a single questionnaire.

Respondent's Obligation: Voluntary.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0783.

Sheleen Dumas,
Department PRA Clearance Officer, Office of the Chief Information Officer, Commerce Department.

[FR Doc. 2020-25418 Filed 11-17-20; 8:45 am]

BILLING CODE 3510-22-P